DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 19, 2003.

Title, Form Number()s) and OMB Number: Industrial Capabilities Questionnaire; DD Form 2737; OMB Control Number 0704-0377.

Type of Request: Reinstatement.

Number of Respondents: 12,800.

Responses per Respondent: 1.

Annual Responses: 12,800.

Average Burden per Response: 12 Hours.

Annual Burden Hours: 153,600.

Needs and Uses: The Industrial Capability Questionnaire will be used by all Services and Defense Logistics Agency to gather business, industrial capability (employment labor skills, facilities, equipment, processes and technology), and manufactured item information to conduct required industrial assessments and support DoD planning and decisions. The questionnaires are directed at key industrial facilities supporting DoD requirements.

Affected Public: Business or Other For-Profit.

Frequency: Annually.

Respondent's Obligation: Voluntary.

OMB Desk Officer: Ms. Jacqueline Zeiher.

Written comments and recommendations on the proposed information collection should be sent to Ms. Zeiher at the Office of Management and Budget, Desk Officer for DoD, Room 10235, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Patricia L. Toppings,
Alternate OSD Federal Register Liaison Officer, Department of Defense.

[FR Doc. 03-9454 Filed 4-16-03; 8:45 am]

BILLING CODE 5001-08-M